DEPARTMENT OF HEALTH AND HUMAN SERVICES

National Institutes of Health

National Human Genome Research Institute; Notice of Meeting

Pursuant to section 1009 of the Federal Advisory Committee Act, as amended, notice is hereby given of a meeting of the National Advisory Council for Human Genome Research.

The meeting will be open to the public, with attendance limited to space available. The meeting will be videocast and can be accessed from https://videocast.nih.gov/ on the day of the meeting. Individuals who plan to attend and need special assistance, such as sign language interpretation or other reasonable accommodations, should notify the Contact Person listed below in advance of the meeting.

Name of Committee: National Advisory Council for Human Genome Research.

Date: February 9, 2026.

Time: 10:00 a.m. to 6:00 p.m.

Agenda: To discuss matters of program relevance.

Address: National Human Genome Research Institute, National Institutes of Health, 6700B Rockledge Drive, Suite 1100, Rockledge, MD 20892.

Meeting Format: Virtual Meeting.

Contact Person: Issel Anne Lim, Ph.D., Deputy Director, Division of Extramural Operations, National Human Genome Research Institute, National Institutes of Health, 6700B Rockledge Drive, Room 3186, Bethesda, MD 20892, isselanne.lim@nih.gov.

Any interested person may file written comments with the committee no later than 15 days after the meeting by forwarding the statement to the Contact Person listed on this notice. The statement should include the name, address, telephone number and when applicable, the business or professional affiliation of the interested person.

Information is also available on the Institute's/Center's home page: http://www.genome.gov/council, where an agenda and any additional information for the meeting will be posted when available.

Dated: January 5, 2026.
Bruce A. George,
Program Analyst, Office of Federal Advisory Committee Policy.

[FR Doc. 2026-00053 Filed 1-6-26; 8:45 am]

BILLING CODE 4140-01-P